ENVIRONMENTAL PROTECTION AGENCY

40 CFR Part 52

[Region VII Tracking No. MO 094-1094; FRL-6537-3]

Approval and Promulgation of Implementation Plans; State of Missouri

AGENCY: Environmental Protection Agency (EPA).

ACTION: Proposed rule.

SUMMARY: EPA is proposing to approve a nitrogen oxides (NOX) reasonably available control technology (RACT) rule which is applicable to the St. Louis, Missouri, ozone nonattainment area. This rule reduces NOX emissions in the St. Louis area by requiring major sources to install or comply with RACT as required by the Clean Air Act (Act).

DATES: Comments must be received on or before March 20, 2000.

ADDRESSES: All comments should be addressed to: Kim Johnson, Air Planning and Development Branch, 901 North 5th Street, Kansas City, Kansas 66101.

Copies of the state submittal(s) are available at the following addresses for inspection during normal business hours: Environmental Protection Agency, Air Planning and Development Branch, 901 North 5th Street, Kansas City, Kansas 66101; and the Environmental Protection Agency, Air and Radiation Docket and Information Center, Air Docket (6102), 401 M Street, SW, Washington, D.C. 20460.

FOR FURTHER INFORMATION CONTACT: Kim Johnson at (913) 551-7975.

SUPPLEMENTARY INFORMATION: Throughout this document whenever “we, us, or our” is used, we mean EPA.

This section provides additional information by addressing the following questions:

What is a State Implementation Plan (SIP)?

What is the Federal approval process for a SIP?

What does Federal approval of a state regulation mean to me?

What is being addressed in this document?

Have the requirements for approval of a SIP revision been met?

What has the state done previously to address this issue?

What action is EPA taking?

What Is a SIP?

Section 110 of the Clean Air Act (CAA) requires states to develop air pollution regulations and control strategies to ensure that state air quality meets the national ambient air quality standards established by us. These ambient standards are established under section 109 of the CAA, and they currently address six criteria pollutants. These pollutants are: carbon monoxide, nitrogen dioxide, ozone, lead, particulate matter, and sulfur dioxide.

Each state must submit these regulations and control strategies to us for approval and incorporation into the Federally enforceable SIP.

Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by us under section 110 of the CAA are incorporated into the Federally approved SIP. Records of such SIP actions are maintained in the Code of Federal Regulations (CFR) at Title 40, Part 52, entitled “Approval and Promulgation of Implementation Plans.” The actual state regulations which are approved are not reproduced in their entirety in the CFR outright but are “incorporated by reference,” which means that we have approved a given state regulation with a specific effective date.

What Does Federal Approval of a State Regulation Mean to Me?

Enforcement of the state regulation before and after it is incorporated into the Federally approved SIP is primarily a state responsibility. However, after the regulation is Federally approved, we are authorized to take enforcement action against violators. Citizens are also offered legal recourse to address violations as described in the CAA.

What Has the State Done Previously to Address This Issue?

NOX emissions combine with volatile organic compound emissions on hot, sunny days to form ground level ozone, commonly known as smog. The purpose of the following rule is to establish RACT requirements for major sources of NOX which will reduce NOX emissions to help achieve reductions in ozone levels in the St. Louis ozone nonattainment area. The St. Louis ozone nonattainment area includes Franklin, Jefferson, St. Charles, and St. Louis counties, and St. Louis City in Missouri and Madison, St. Clair, and Monroe counties in Illinois.

The Missouri Department of Natural Resources (MDNR) submitted a NOX RACT waiver petition dated April 25, 1996. The state requested a determination by EPA under section 182(f) of the CAA that NOX RACT controls were not necessary in St. Louis for attainment of the ozone NAAQS. EPA has not acted on that request. However, in its demonstration of the attainment of the ozone standard on which EPA will act in a separate rulemaking, Missouri has determined that NOX RACT controls are needed to attain the ozone standard and the NOX RACT controls for sources in the Missouri portion of the nonattainment area are utilized in the control strategy for the attainment demonstration. Therefore, now that Missouri has determined that local NOX reductions are necessary for attainment, the NOX RACT rule has been submitted accordingly.

On July 1, 1996, Missouri submitted an earlier NOX RACT SIP. EPA has not acted on the 1996 NOX RACT SIP. The November 1999 submission supercedes the former SIP submittal.

What Is Being Addressed in This Document?

We are proposing to approve as an amendment to the Missouri SIP, rule 10 CSR 10-5.510, Control of Emissions of Nitrogen Oxides, submitted to us on November 12, 1999. This NOX RACT rule is applicable to all sources with the potential to emit one hundred (100) tons per year or more of nitrogen oxides in the Missouri portion of the St. Louis nonattainment area. The rule establishes emission limits, work practices, monitoring, testing, recordkeeping and reporting requirements for boilers, stationary internal combustion (IC) turbines, stationary IC engines, incinerators, regenerative container melting glass furnaces, and portland cement kilns.

To provide additional flexibility, the rule allows for emissions averaging, on a monthly basis, between two or more emissions units with similar design and emissions characteristics provided that they are subject to the requirements of the rule and that they are located in the St. Louis nonattainment area.

As explained in more detail in the technical support document (TSD) for this proposal, we have reviewed the NOX controls and averaging provisions in this rule and have determined that they are consistent with relevant EPA guidance and with NOX controls approved as RACT for other states.

The rule also requires any other stationary source with the potential to emit one hundred (100) tons per year or more of NOX emissions, for which an emission limit has not been set, to complete a “case-by-case” RACT study to evaluate appropriate controls to minimize NOX emissions. This “case-by-case” analysis must be completed in accord with the procedures established in the rule for identifying all available control technologies and selecting the technology that provides the most effective, cost reasonable reduction technique. The “case-by-case” studies must be submitted to MDNR by July 1, 2000. The rule requires all “case-by-case” RACT determinations must be approved by MDNR and submitted to EPA.

Missouri has provided documentation showing that all known major NOX sources are subject to specific RACT rules, so that the “case-by-case” RACT requirements would cover sources which may become subject to NOX RACT in the future due to increases in NOX emissions.

Therefore, EPA believes that the “case-by-case” rule is consistent with EPA policy which provides that, among other reasons, EPA may fully approve a “generic” or “case-by-case” RACT rule where the state has established specific RACT limits for all known major sources and has determined that, to the best of its knowledge, there are no remaining unregulated sources (November 7, 1996, memorandum from Sally Shaver, Director, Air Quality Strategies and Standards Division, entitled “Approval Options for Generic RACT Rules Submitted to meet the Non-CTG VOC RACT Requirements and Certain NOX RACT Requirements.”)

Full approval of this generic RACT rule will not relieve sources or the state of the obligation to ensure that all sources within the regulated area comply with the RACT requirement of the CAA, by adopting and implementing emission limitations. All “case-by-case” RACT determinations must be submitted to EPA for inclusion in the Federally approved SIP to ensure that the requirements are acceptable as representing RACT and are enforceable by EPA.

Also, any remaining sources which are currently “unknown” are required to determine and comply with RACT. This requirement is enforceable by EPA and by citizen groups under section 304 of the Act. Although this rule is proposed for approval as meeting RACT, if EPA later determines that sources remain unregulated under the Federally approved SIP, EPA could issue a SIP call or, possibly, a finding of nonimplementation of the SIP.

Have The Requirements for Approval of a SIP Revision Been Met?

The state submittal has met the public notice requirements for SIP submissions in accordance with 40 CFR section 51.102. The submittal also satisfied the completeness criteria of 40 CFR Part 51, Appendix V. In addition, as explained above and in more detail in the TSD which is part of this notice, the revision meets the substantive SIP requirements of the CAA, including section 110 and Part D of Title I. The revision is also consistent with the EPA guidance, including the guidance referenced previously and the “Nitrogen Oxides Supplement to the General Preamble,” 57 FR 55620, November 25, 1992.

What Action Is EPA Taking?

We are proposing to approve as an amendment to the Missouri SIP rule 10 CSR 10-5.510, Control of Emissions of Nitrogen Oxides, as meeting the requirement for NOX RACT which is applicable to the Missouri portions of the St. Louis ozone nonattainment area.

Administrative Requirements

Under Executive Order 12866 (58 FR 51735, October 4, 1993), this proposed action is not a “significant regulatory action” and therefore is not subject to review by the Office of Management and Budget. This proposed action merely approves state law as meeting Federal requirements and imposes no additional requirements beyond those imposed by state law. Accordingly, the Administrator certifies that this proposed rule will not have a significant economic impact on a substantial number of small entities under the Regulatory Flexibility Act (5 U.S.C. 601 et seq.). Because this rule proposes to approve preexisting requirements under state law and does not impose any additional enforceable duty beyond that required by state law, it does not contain any unfunded mandate or significantly or uniquely affect small governments, as described in the Unfunded Mandates Reform Act of 1995 (Pub. L. 104-4). For the same reason, this proposed rule also does not significantly or uniquely affect the communities of tribal governments, as specified by Executive Order 13084 (63 FR 27655, May 10, 1998). This proposed rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This proposed rule also is not subject to Executive Order 13045 (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This proposed rule does not impose an information collection burden under the provisions of the Paperwork Reduction Act of 1995 (44 U.S.C. 3501 et seq.).

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Authority: 42 U.S.C. 7401 et seq.

Dated: February 1, 2000.
Leo Alderman,
Acting Regional Administrator, Region VII.

[FR Doc. 00-3471 Filed 2-16-00; 8:45 am]

BILLING CODE 6560-50-P